DEPARTMENT OF ENERGY

Environmental Management Advisory Board

AGENCY: Department of Energy.

ACTION: Notice of postponement of committee meeting.

SUMMARY: This notice announces the postponement of the Alternative Technologies to Incineration Committee (ATIC).

DATES: Meeting date: Tuesday, September 25, 2001—8:30 a.m.-5 p.m.; Wednesday, September 26, 2001—8:30 a.m.-4 p.m.

ADDRESSES: Meeting location: U.S. Department of Energy, Forrestal Building, 1000 Independence Avenue, SW. (Room 1E-245), Washington, DC 20585.

FOR FURTHER INFORMATION CONTACT: James T. Melillo, Executive Director of the Environmental Management Advisory Board (EM-10), 1000 Independence Avenue SW. (Room 5B-171), Washington, DC 20585; telephone (202) 586-4400; e-mail james.melillo@em.doe.gov.

Issued at Washington, DC, on September 19, 2001.
Belinda Hood,
Acting Deputy Advisory Committee Management Officer.

[FR Doc. 01-23792 Filed 9-21-01; 8:45 am]

BILLING CODE 6450-01-P